DEPARTMENT OF HEALTH AND HUMAN SERVICES

Centers for Medicare & Medicaid Services

[Document Identifier: CMS-10945]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA) federal agencies are also required to publish notice in the Federal Register concerning each proposed collection of information before the agency's request is submitted to OMB for approval.

DATES: Comments on the collection(s) of information must be received by the OMB desk officer by April 14, 2026.

ADDRESSES: Written comments and recommendations for the proposed information collection should be sent within 60 days of publication of this notice to www.reginfo.gov/public/do/PRAMain. Find this particular information collection by selecting “Currently under 60-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party.

Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

Information Collection

1. Type of Information Collection Request: New collection (Request for a new OMB control number); Title of Information Collection: Administrative Procedures for Chronic and Post-Acute Care Quality Programs; Use: This is a request for a new information collection for certain procedural requirements associated with the Centers for Medicare & Medicaid Services' (CMS') quality reporting programs (QRPs) and value-based purchasing (VBP) programs. CMS' QRPs and VBP programs promote higher quality, more efficient healthcare for Medicare beneficiaries by collecting and reporting on quality-of-care metrics. This information is made available to consumers, both to empower Medicare beneficiaries and inform decision-making, as well as to incentivize providers to make continued quality improvements.

Specifically, CMS has implemented QRPs for multiple settings, including for the home health (HH), hospice, inpatient rehabilitation facility (IRF), long-term acute care hospital (LTCH), and skilled nursing facility (SNF) settings, to achieve its overarching priorities and initiatives. Any Hospice, HH Agency (HHA), IRF, LTCH, or SNF—collectively referred to as providers—that does not meet the reporting requirements for their respective program may be subject to a payment reduction in its annual payment update (APU).

CMS has also implemented value-based purchasing (VBP) programs to provide incentive payments to providers who deliver high quality care to patients, as measured by their performance on specific quality metrics.

These QRPs and SNF VBP Program include quality measures calculated using data collected through claims, staffing data, standardized assessment tools, patient surveys, and the Centers for Disease Control and Prevention's (CDC) National Healthcare Safety Network (NHSN). SNFs participating in the SNF QRP and VBP Program are also required to participate in a MDS data validation process.

Quality measures calculated using data collected through claims are referred to as claims-based measures. Claims data are reported to Medicare for payment purposes, and there is no additional burden required from providers. Quality measures calculated from staffing data use the data submitted by SNFs to the Payroll-based Journal as required by Section 6106 of the Affordable Care Act (ACA), and there is no additional burden required from providers.

These QRPs, as pay-for-reporting programs, strive to have a streamlined measure set that provides meaningful measurement and differentiates providers by quality of care while limiting burden to the fullest extent possible. CMS provides confidential feedback reports that providers may use to assess their performance and operationalize quality improvement activities throughout the quality reporting period. These reports include the data that CMS has collected from the provider and the provider's claims, and some also include information about how the provider's data compares relative to the performance of other providers.

CMS also uses SNF quality reporting information to set payment adjustments for the SNF VBP program. For example, the SNF VBP Interim (Partial-Year) Workbook and Full-Year Workbooks allow SNFs to assess their current performance in each measure. The SNF VBP Performance Score Report allows SNFs to assess how the SNF VBP Program scored their current measure performance and determine the SNF VBP Program's incentive payment adjustments for the coming fiscal year. Form Number: CMS-10945 (OMB control number: 0938-NEW); Frequency: Annually; Affected Public: Private Sector—Not-for-profit institutions and Business or other for-profits and State, Local or Tribal Governments; Number of Respondents: 33,340; Total Annual Responses: 72; Total Annual Hours: 18. (For policy questions regarding this collection contact Heidi Magladry at (410)786-6034.)

William N. Parham, III,
Director, Division of Information Collections and Regulatory Impacts, Office of Strategic Operations and Regulatory Affairs.

[FR Doc. 2026-02966 Filed 2-12-26; 8:45 am]

BILLING CODE 4120-01-P